DEPARTMENT OF DEFENSE

Department of the Army

Notice of Availability for the Draft Environmental Impact Statement (DEIS) for Development and Implementation of Range-Wide Mission and Major Capabilities at White Sands Missile Range (WSMR), New Mexico

AGENCY: Department of the Army, DoD.

ACTION: Notice of Availability (NOA).

SUMMARY: The Department of the Army announces the availability of a DEIS that assesses environmental impacts associated with new mission requirements and new test and training capabilities at WSMR. It analyzes the impacts of land use changes that provide for increased research, development, and testing activities. The impacts of expanded off-road maneuver and facilities needed to support increased Future Combat Systems testing and the stationing and training of a Heavy Brigade Combat Team (HBCT) of approximately 3,800 Soldiers is also analyzed.

DATES: The public comment period will end 45 days after publication of an NOA in the Federal Register by the U.S. Environmental Protection Agency.

ADDRESSES: For specific questions regarding the DEIS, please contact the White Sands Test Center; Operations Office, Attention: Catherine Giblin, 124 Crozier Street, Building 124, Room B-15, White Sands Missile Range, NM 88002. Written comments may be mailed to the above address, faxed to (575) 678-4082, or e-mailed to: wsmreis@conus.army.mil.

FOR FURTHER INFORMATION CONTACT: Monte Marlin, Public Affairs Office, Building 1782, Headquarters Avenue, White Sands Missile Range, NM 88002; (575) 678-1134; or e-mail monte.marlin@us.army.mil.

SUPPLEMENTARY INFORMATION: The proposed action would result in a flexible, capabilities-based land use and airspace plan able to accommodate rapidly evolving customer needs, support current and future mission activities, and support a full range of test and training efforts from individual components up through major joint and multinational programs. The DEIS assesses the environmental impacts associated with the testing, training, and stationing activities under the proposed plan. Testing typically involves activities such as missile flight tests, aerial intercepts, air-delivered munitions tests against ground targets, directed energy and various weapon systems tests. Training involves military personnel using the land for maneuver as well as for field evaluation of weapons, equipment, communication systems, or other objectives. Testing, training and stationing require additional infrastructure such as barracks, motor pools, and administrative buildings. Implementation of the Proposed Action is anticipated in 2009 and would begin following the completion of a Final EIS and signing of a Record of Decision (ROD).

The stationing of an HBCT at WSMR and other force structure realignment actions across the Army were analyzed in the 2007 Final Programmatic Environmental Impact Statement for Army Growth and Force Structure Realignment. The ROD determined that WSMR would receive an HBCT in 2013. The development and implementation of a land use plan and airspace is intended to more fully realize and integrate the capabilities of the WSMR primary mission (research, development, testing, and evaluation (RDTE)) with new training capabilities and Army stationing decisions. Establishing new test and training capabilities requires changing land use designations within the current installation boundaries. These changes would support current and future requirements and allow off-road vehicle maneuver on designated portions of the installation. WSMR will maintain its current RDTE mission and continue to support testing objectives of all military services and federal agencies.

The DEIS evaluates and discloses the environmental effects associated with two alternatives and a no action alternative on the natural, cultural, and man made environments at WSMR and in the southern New Mexico region. The no action alternative includes current test capabilities and land use designations with current levels of operations and activities. It also provides the baseline conditions for comparison to the other alternatives. Alternative 1 changes land use to expand testing and maneuver capabilities to include Future Combat Systems or similar programs. It supports the Grow the Army decision to station an HBCT at WSMR by expanding the cantonment area and adding additional supporting infrastructure. Alternative 2 includes those activities described in Alternative 1 and adds additional off-road maneuver areas for testing and training on WSMR.

The Army invites full public participation to promote open communication and better decision making, including comment on the DEIS and participation in public meetings, which will be announced in advance in local news media. The DEIS is available at local libraries surrounding WSMR and may also be accessed at http://www.wsmr.army.mil. A Preferred Alternative has not been selected at this time. Comments from the public will be considered before any decision is made regarding the Preferred Alternative or implementation of the Proposed Action.

Dated: April 27, 2009.
Addison D. Davis, IV,
Deputy Assistant Secretary of the Army (Environment, Safety, and Occupational Health).

[FR Doc. E9-10603 Filed 5-7-09; 8:45 am]

BILLING CODE 3710-08-M